DEPARTMENT OF ENERGY

Federal Energy Regulatory Commission

Combined Notice of Filings #2

Take notice that the Commission received the following electric rate filings:

Docket Numbers: ER10-3310-004.

Applicants: New Harquahala Generating Company, LLC.

Description: Triennial Market Power Report of New Harquahala Generating Company, LLC for Southwest Region.

Filed Date: 3/29/13.

Accession Number: 20130329-5213.

Comments Due: 5 p.m. ET 5/28/13.

Docket Numbers: ER13-894-001.

Applicants: Puget Sound Energy, Inc.

Description: Puget Sound Energy, Inc. submits OATT Correction to Schedule 3 to be effective 1/5/2012.

Filed Date: 3/29/13.

Accession Number: 20130329-5172.

Comments Due: 5 p.m. ET 4/19/13.

Docket Numbers: ER13-1182-000.

Applicants: Niagara Mohawk Power Corporation, New York Independent System Operator, Inc.

Description: National Grid revisions to OATT Wholesale TSC Formula to be effective 7/1/2013.

Filed Date: 3/29/13.

Accession Number: 20130329-5045.

Comments Due: 5 p.m. ET 4/19/13.

Docket Numbers: ER13-1183-000.

Applicants: Maine Public Service Company.

Description: NITS Service Agreement with Houlton Water Co. to be effective 3/1/2013.

Filed Date: 3/29/13.

Accession Number: 20130329-5059.

Comments Due: 5 p.m. ET 4/19/13.

Docket Numbers: ER13-1184-000.

Applicants: Entergy Power, LLC.

Description: CBR Tariff to be effective 6/1/2013.

Filed Date: 3/29/13.

Accession Number: 20130329-5060.

Comments Due: 5 p.m. ET 4/19/13.

Docket Numbers: ER13-1185-000.

Applicants: Westar Energy, Inc.

Description: KEPCo, Revision to Attachment A—Delivery Points (06/01/13) to be effective 6/1/2013.

Filed Date: 3/29/13.

Accession Number: 20130329-5070.

Comments Due: 5 p.m. ET 4/19/13.

Docket Numbers: ER13-1186-000.

Applicants: MidAmerican Energy Company, Midwest Independent Transmission System Operator, Inc.

Description: MidAmerican Energy Company submits 2013-03-29 MidAm Att GG Annual True-Up to be effective 6/1/2013.

Filed Date: 3/29/13.

Accession Number: 20130329-5087.

Comments Due: 5 p.m. ET 4/19/13.

Docket Numbers: ER13-1187-000.

Applicants: Midwest Independent Transmission System Operator, Inc., MidAmerican Energy Company.

Description: Midwest Independent Transmission System Operator, Inc. submits 2013-03-29 MidAm Att O Depreciation Rates to be effective 6/1/2013.

Filed Date: 3/29/13.

Accession Number: 20130329-5088.

Comments Due: 5 p.m. ET 4/19/13.

Docket Numbers: ER13-1188-000.

Applicants: Pacific Gas and Electric Company.

Description: Pacific Gas and Electric Company submits Wholesale Distribution Tariff Rate Case 2013 (WDT2) to be effective 6/1/2013.

Filed Date: 3/29/13.

Accession Number: 20130329-5091.

Comments Due: 5 p.m. ET 4/19/13.

Docket Numbers: ER13-1188-001.

Applicants: Pacific Gas and Electric Company.

Description: Pacific Gas and Electric Company submits First Amendment to Wholesale Distribution Tariff Rate Case 2013 (WDT2), CCSF to be effective 6/1/2013.

Filed Date: 3/29/13.

Accession Number: 20130329-5110.

Comments Due: 5 p.m. ET 4/19/13.

Docket Numbers: ER13-1188-002.

Applicants: Pacific Gas and Electric Company.

Description: Pacific Gas and Electric Company submits Second Amendment to Wholesale Distribution Tariff Rate Case 2013 (WDT2), HMU to be effective 6/1/2013.

Filed Date: 3/29/13.

Accession Number: 20130329-5123.

Comments Due: 5 p.m. ET 4/19/13.

Docket Numbers: ER13-1188-003.

Applicants: Pacific Gas and Electric Company.

Description: Pacific Gas and Electric Company submits Third Amendment to Wholesale Distribution Tariff Rate Case 2013 (WDT2), LID to be effective 6/1/2013.

Filed Date: 3/29/13.

Accession Number: 20130329-5125.

Comments Due: 5 p.m. ET 4/19/13.

Docket Numbers: ER13-1188-004.

Applicants: Pacific Gas and Electric Company.

Description: Pacific Gas and Electric Company submits Fourth Amendment to Wholesale Distribution Tariff Rate Case 2013 (WDT2), MRID to be effective 6/1/2013.

Filed Date: 3/29/13.

Accession Number: 20130329-5131.

Comments Due: 5 p.m. ET 4/19/13.

Docket Numbers: ER13-1188-005.

Applicants: Pacific Gas and Electric Company.

Description: Pacific Gas and Electric Company submits Fifth Amendment to Wholesale Distribution Tariff Rate Case 2013 (WDT2), PWRPA 30 to be effective 6/1/2013.

Filed Date: 3/29/13.

Accession Number: 20130329-5135.

Comments Due: 5 p.m. ET 4/19/13.

Docket Numbers: ER13-1188-006.

Applicants: Pacific Gas and Electric Company.

Description: Pacific Gas and Electric Company submits Sixth Amendment to Wholesale Distribution Tariff Rate Case 2013 (WDT2), PWRPA 56 to be effective 6/1/2013.

Filed Date: 3/29/13.

Accession Number: 20130329-5166.

Comments Due: 5 p.m. ET 4/19/13.

Docket Numbers: ER13-1188-007.

Applicants: Pacific Gas and Electric Company.

Description: Pacific Gas and Electric Company submits Seventh Amendment to Wholesale Distribution Tariff Rate Case 2013 (WDT2), S Cove to be effective 6/1/2013.

Filed Date: 3/29/13.

Accession Number: 20130329-5180.

Comments Due: 5 p.m. ET 4/19/13.

Docket Numbers: ER13-1189-000.

Applicants: Champion Energy Marketing LLC.

Description: Champion Energy Marketing LLC submits Revision to market-based rates tariff to be effective 3/30/2013.

Filed Date: 3/29/13.

Accession Number: 20130329-5137.

Comments Due: 5 p.m. ET 4/19/13.

Docket Numbers: ER13-1190-000.

Applicants: Southern California Edison Company.

Description: Southern California Edison Company submits Retail Rate Design Single Issue Filing to be effective 4/1/2013.

Filed Date: 3/29/13.

Accession Number: 20130329-5139.

Comments Due: 5 p.m. ET 4/19/13.

Docket Numbers: ER13-1191-000.

Applicants: Champion Energy Services, LLC.

Description: Champion Energy Services, LLC submits Revision to market-based rates tariff to be effective 3/30/2013.

Filed Date: 3/29/13.

Accession Number: 20130329-5142.

Comments Due: 5 p.m. ET 4/19/13.

Docket Numbers: ER13-1192-000.

Applicants: Hess Energy Marketing LLC.

Description: Hess Energy Marketing LLC submits Application for Market-Based Rate Authorization to be effective 5/13/2013.

Filed Date: 3/29/13.

Accession Number: 20130329-5154.

Comments Due: 5 p.m. ET 4/19/13.

Docket Numbers: ER13-1193-000.

Applicants: Puget Sound Energy, Inc.

Description: Puget Sound Energy, Inc. submits Morgan Stanley TX Agreements 662 & 663 to be effective 6/1/2013.

Filed Date: 3/29/13.

Accession Number: 20130329-5159.

Comments Due: 5 p.m. ET 4/19/13.

Docket Numbers: ER13-1194-000.

Applicants: Entergy Services, Inc.

Description: Entergy Services, Inc., on behalf of Entergy Arkansas, Inc. submittal of 2013 Wholesale Rate Update for AECC under the PCITSA.

Filed Date: 3/29/13.

Accession Number: 20130329-5161.

Comments Due: 5 p.m. ET 4/19/13.

Docket Numbers: ER13-1195-000.

Applicants: Entergy Services, Inc.

Description: Entergy Services, Inc., on behalf of Entergy Arkansas, Inc., files 2013 Wholesale Rate Update for Arkansas Cities.

Filed Date: 3/29/13.

Accession Number: 20130329-5162.

Comments Due: 5 p.m. ET 4/19/13.

Docket Numbers: ER13-1196-000.

Applicants: Champion Energy, LLC.

Description: Champion Energy, LLC submits Revision to market-based rates tariff to be effective 3/30/2013.

Filed Date: 3/29/13.

Accession Number: 20130329-5170.

Comments Due: 5 p.m. ET 4/19/13.

Docket Numbers: ER13-1197-000.

Applicants: Public Service Company of Colorado.

Description: 2012 Production Formula Rate Charges and Transmission Formula Rate Charges for Post-Retirement Benefits Other than Pensions of Public Service Company of Colorado.

Filed Date: 3/29/13.

Accession Number: 20130329-5183.

Comments Due: 5 p.m. ET 4/19/13.

Docket Numbers: ER13-1198-000.

Applicants: PJM Interconnection, L.L.C.

Description: PJM Interconnection, L.L.C. submits OATT & OA revisions re Stage 1A increased capability limits to be effective 5/9/2013.

Filed Date: 3/29/13.

Accession Number: 20130329-5218.

Comments Due: 5 p.m. ET 4/8/13.

Docket Numbers: ER13-1199-000.

Applicants: New York Independent System Operator, Inc.

Description: New York Independent System Operator, Inc. submits NYISO tariff filing regarding credit requirements for External Transactions to be effective 6/12/2013.

Filed Date: 3/29/13.

Accession Number: 20130329-5222.

Comments Due: 5 p.m. ET 4/19/13.

Docket Numbers: ER13-1200-000.

Applicants: PJM Interconnection, L.L.C.

Description: PJM Interconnection, L.L.C. submits Revisions to the OATT & OA re Lost Opportunity Cost Compensation Limitations to be effective 6/1/2013.

Filed Date: 3/29/13.

Accession Number: 20130329-5224.

Comments Due: 5 p.m. ET 4/19/13.

Take notice that the Commission received the following public utility holding company filings:

Docket Numbers: PH13-14-000.

Applicants: WETT Holdings LLC.

Description: WETT Holdings LLC submits FERC-65-B Waiver Notification.

Filed Date: 3/29/13.

Accession Number: 20130329-5130.

Comments Due: 5 p.m. ET 4/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2013.
Nathaniel J. Davis, Sr.,
Deputy Secretary.

.

[FR Doc. 2013-08054 Filed 4-5-13; 8:45 am]

BILLING CODE 6717-01-P